ENVIRONMENTAL PROTECTION AGENCY

40 CFR Part 52

[PA 210-4302; FRL-7588-4]

Approval and Promulgation of Air Quality Implementation Plans; Pennsylvania; Revisions To Update the 1-Hour Ozone Maintenance Plan for the Reading Area (Berks County)

AGENCY: Environmental Protection Agency (EPA).

ACTION: Proposed rule.

SUMMARY: EPA is proposing to approve a State Implementation Plan (SIP) revision submitted by the Commonwealth of Pennsylvania. This revision amends Pennsylvania's ten-year plan to maintain the 1-hour ozone national ambient air quality standard (NAAQS) in the Reading area (Berks County). The maintenance plan is being amended to revise the attainment year inventories and motor vehicle emission budgets using MOBILE6. The contingency measures portion of the plan is also being amended. This action is being taken under the Clean Air Act.

DATES: Written comments must be received on or before December 19, 2003.

ADDRESSES: Written comments may be mailed to Robert Kramer, Chief, Energy, Radiation and Indoor Environment, Mailcode 3AP23, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; andthe Pennsylvania Department of Environmental Protection, Bureau of Air Quality Control, P.O. Box 8468, 400 Market Street, Harrisburg, Pennsylvania 17105.

FOR FURTHER INFORMATION CONTACT: Martin T. Kotsch, Energy, Radiation and Indoor Environment Branch, U.S. Environmental Protection Agency, 1650 Arch Street, Mail Code 3AP23, Philadelphia, Pennsylvania 19103-20209, (215) 814-3335, or by e-mail at Kotsch.Martin@epa.gov.

SUPPLEMENTARY INFORMATION:

I. Background

On May 7, 1997 ( 62 FR 24826), EPA approved Pennsylvania's redesignation request and ten year plan for continued maintenance of the 1-hour ozone NAAQS in the Reading area as a revision to the Pennsylvania SIP. This maintenance plan included, among other things, MOBILE5-based motor vehicle emissions budgets (MVEBs).

On October 14, 2003, the Pennsylvania Department of Environmental Protection (DEP) submitted a request that EPA parallel process revisions to the Pennsylvania SIP's 1-hour ozone maintenance plan for the Reading area.

The maintenance plan identifies and establishes the applicable MVEBs for the Reading area to which the area's transportation improvement program and long range transportation plan must conform. Conformity to MVEBs in a SIP means that transportation activities will not produce new air quality violations, worsen existing violations, or delay timely attainment of the NAAQS. The Reading area maintenance plan identifies and establishes the applicable MVEBs for the Reading area for both volatile organic compounds (VOC) and nitrogen oxides (NOX), which are precursors of ground level ozone, for the years 1992, 2004, and 2007.

The MOBILE model is an EPA emissions factor model for estimating pollution from on-road motor vehicles. The MOBILE model calculates emissions of VOCs, NOX and carbon monoxide (CO) from passenger cars, motorcycles, buses, and light-duty and heavy-duty trucks. The model accounts for the emission impacts of factors such as changes in vehicle emission standards, changes in vehicle populations and activity, and variation in local conditions such as temperature, humidity, fuel quality, and air quality programs. The MOBILE model is used to calculate current and future inventories of motor vehicle emissions at the national and local level. These inventories are used to make decisions about air pollution policies and programs at the local, State and national level. MOBILE-based inventories are also used to meet the Federal Clean Air Act's SIP and transportation conformity requirements.

The MOBILE model was first developed in 1978. It has been updated many times to reflect changes in the vehicle fleet and fuels, to incorporate EPA's growing understanding of vehicle emissions, and to cover new emissions regulations and modeling needs. EPA released MOBILE6, a new version of the motor vehicle emissions factor model on January 29, 2002 (67 FR 4254). Although some minor updates were made in 1996 with the release of MOBILE5b, MOBILE6 is the first major revision to MOBILE since MOBILE5a was released in 1993. Beginning in January of 2004, all conformity determinations for new Transportation Improvement Programs and/or Transportation Plans will be required to use the MOBILE6 emissions model to demonstrate conformity.

II. Summary of the Proposed SIP Revisions to the Reading Area Maintenance Plan

A. Revisions to the Motor Vehicle Emission Budgets (MVEBs)

In the original maintenance plan approved for the Reading area on May 7, 1997 (62 FR 24826), emissions growth was projected for all source categories (point, area, and highway mobile) starting with the year that the area attained the NAAQS (1992). Those original mobile emissions budgets were projected based on the MOBILE5 emissions model. The October 14, 2003, proposed SIP revision amends the mobile inventories for the attainment year (1992) and the MVEBs for 2004 and 2007 using MOBILE6.

B. Revisions to the Contingency Measures

In the original maintenance plan for the Reading area, the Commonwealth's motor vehicle inspection and maintenance (I&M) program was identified as a contingency measure. The October 14, 2003, proposed SIP revision moves the I&M program from the contingency measures portion of the plan and makes it part of the maintenance strategy. Improved rule effectiveness will remain as a contingency measure in the maintenance plan.

III. EPA's Evaluation of the Proposed Revisions to the Reading Area Maintenance Plan

A. The Revised Attainment Year (1992) Emission Inventories

The DEP's October 14, 2003, proposed revisions revise the 1992 attainment year motor vehicle emissions inventories and the 2004 and 2007 MVEBs using the MOBILE6 model. EPA has articulated its policy regarding the use of MOBILE6 in SIP development in its “Policy Guidance on the Use of MOBILE6 for SIP Development and Transportation Conformity” ¹. EPA's review of the DEP's October 14, 2003, submittal indicates that it has appropriately applied this policy. EPA policy guidance also requires the Commonwealth to consider whether growth and control strategy assumptions for non-motor vehicle sources (i.e., point, area, and non-road mobile sources) were still accurate at the time the October 14, 2003, proposed revision was developed. Pennsylvania has reassessed the growth and control strategy assumptions for non-motor vehicle sources, and concluded that these assumptions continue to be valid for the 1-hour ozone maintenance demonstration for the Reading area.

¹ Memorandum, “Policy Guidance on the Use of MOBILE6 for SIP development and Transportation Conformity,” issued January 18, 2002. A copy of this memorandum can be found on EPA's Web site at http://www.epa.gov/otaq/transp/traqconf.htm.

Table 1 summarizes the MOBILE6-based motor vehicle emissions inventories in tons per summer day (tpd) for the 1992 attainment year in the Reading area.

Table 1.—MOBILE6-Based Motor Vehicle Emissions Inventories for the Reading Area
Maintenance area | 1992 Attainment year: VOC (tpd) | 1992 Attainment year: NOX (tpd)
Reading | 27.25 | 35.57

B. The Revised Motor Vehicle Emissions Budgets (MVEBs)

For the Reading area maintenance plan, the MVEBs are the projected on-road mobile source components of the 2004 and 2007 maintenance inventories. Table 2 below summarizes Pennsylvania's proposed revised MOBILE6-based budgets. These budgets were developed using the latest planning assumptions, including 2002 vehicle registration data, vehicle miles traveled, speeds, fleet mix, and SIP control measures. Because DEP's October 14, 2003, submittal satisfies the conditions outlined in EPA's MOBILE6 Policy guidance, and demonstrates that the new levels of motor vehicle emissions calculated using MOBILE6 continue to support maintenance of the 1-hour ozone NAAQS, EPA is proposing to approve these budgets.

Table 2.—MOBILE6-Based MVEBs in the Maintenance Plan for the Reading Area
Maintenance Area | 2004: VOC (tpd) | 2004: NOX (tpd) | 2007: VOC (tpd) | 2007: NOX (tpd)
Reading Area (Berks County) | 17.02 | 28.99 | 13.81 | 23.06

The October 14, 2003, submittal demonstrates that the new levels of motor vehicle emissions calculated using MOBILE6 continue to support the demonstration of maintenance of the 1-hour ozone NAAQS for the Reading area. This is evidenced by the fact that the 2004 and 2007 MVEBs shown in Table 2 continue to be well below the 1992 MOBILE6 based MVEBs for their attainment year.

IV. EPA's Proposed Action

EPA is proposing to approve the Commonwealth of Pennsylvania's proposed revisions to the maintenance plan for the Reading area which were submitted on October 14, 2003. Long term maintenance of the NAAQS is deemed to be demonstrated when total projected growth in emissions in all categories remains below the level of emissions that occurred in the attainment year. EPA's review of the DEP's October 14, 2003, submittal indicates that the proposed revisions to the maintenance plan continue to demonstrate long term maintenance of the 1-hour ozone standard for the Reading area. These revisions are being proposed under a procedure called parallel processing, whereby EPA proposes rulemaking action concurrent with the Commonwealth's procedures for amending its SIP. If the proposed revisions are substantially changed in areas other than those identified in this notice, EPA will evaluate those changes and may publish another notice of proposed rulemaking. If no substantial changes are made other than those areas cited in this notice, EPA will publish a Final Rulemaking Notice on the revisions. The final rulemaking action by EPA will occur only after the SIP revisions have been adopted by Pennsylvania and submitted formally to EPA for incorporation into the SIP.

EPA is soliciting public comments on the issues discussed in this document. These comments will be considered before taking final action. Interested parties may participate in the Federal rulemaking procedure by submitting either electronic or written comments. To ensure proper receipt by EPA, identify the appropriate rulemaking identification number PA 210-4302 in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

i. E-mail. Comments may be sent by electronic mail (e-mail) to Kramer.Robert@EPA.gov, attention PA 210-4302. EPA's e-mail system is not an “anonymous access” system. If you send an e-mail comment directly without going through Regulations.gov, EPA's e-mail system automatically captures your e-mail address. E-mail addresses that are automatically captured by EPA's e-mail system are included as part of the comment that is placed in the official public docket.

ii. Regulations.gov. Your use of Regulation.gov is an alternative method of submitting electronic comments to EPA. Go directly to Regulations.gov at http://www.regulations.gov, then select “Environmental Protection Agency” at the top of the page and use the “go” button. The list of current EPA actions available for comment will be listed. Please follow the online instructions for submitting comments. The system is an “anonymous access” system, which means EPA will not know your identity, e-mail address, or other contact information unless you provide it in the body of your comment.

iii. Disk or CD-ROM. You may submit comments on a disk or CD-ROM that you mail to the mailing address identified in the ADDRESSES section of this document. These electronic submissions will be accepted in WordPerfect, Word or ASCII file format. Avoid the use of special characters and any form of encryption.

2. By Mail. Written comments should be addressed to the EPA Regional office listed in the ADDRESSES section of this document.

For public commenters, it is important to note that EPA's policy is that public comments, whether submitted electronically or in paper, will be made available for public viewing at the EPA Regional Office, as EPA receives them and without change, unless the comment contains copyrighted material, confidential business information (CBI), or other information whose disclosure is restricted by statute. When EPA identifies a comment containing copyrighted material, EPA will provide a reference to that material in the version of the comment that is placed in the official public rulemaking file. The entire printed comment, including the copyrighted material, will be available at the Regional Office for public inspection.

Submittal of CBI Comments

Do not submit information that you consider to be CBI electronically to EPA. You may claim information that you submit to EPA as CBI by marking any part or all of that information as CBI (if you submit CBI on disk or CD-ROM, mark the outside of the disk or CD-ROM as CBI and then identify electronically within the disk or CD-ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD-ROM, mark the outside of the disk or CD-ROM clearly that it does not contain CBI. Information not marked as CBI will be included in the public file and available for public inspection without prior notice. If you have any questions about CBI or the procedures for claiming CBI, please consult the person identified in the FOR FURTHER INFORMATION CONTACT section.

Considerations When Preparing Comments to EPA

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

V. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve Commonwealth law as meeting Federal requirements and imposes no additional requirements beyond those imposed by Commonwealth law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

This rule proposing to approve Pennsylvania's proposed revisions to the Reading area's maintenance plan for the 1-hour ozone NAAQS, submitted to EPA on October 14, 2003, for parallel-processing, does not impose an information collection burden under the provisions of the Paperwork Reduction Act of 1995 (44 U.S.C. 3501 et seq.).

List of Subjects in 40 CFR Part 52

Environmental protection, Air pollution control, Intergovernmental relations, Nitrogen dioxide, Ozone, Reporting and recordkeeping requirements, Volatile organic compounds.

Authority: 42 U.S.C. 7401 et seq.

Dated: November 10, 2003.
Thomas Voltaggio,
Acting Regional Administrator, Region III.

[FR Doc. 03-28909 Filed 11-18-03; 8:45 am]

BILLING CODE 6560-50-P